DEPARTMENT OF THE INTERIOR

Bureau of Land Management

[ LLUTW02000-L51010000-ER0000-LVRWJ18J5120-18X—UTU-90095]

Notice of Availability of the Final Environmental Impact Statement for the Sevier Playa Potash Project, Utah

AGENCY: Bureau of Land Management, Interior.

ACTION: Notice of availability.

SUMMARY: In accordance with the National Environmental Policy Act of 1969, as amended, the Federal Land Policy and Management Act of 1976, as amended, the Mineral Leasing Act of 1920, as amended, and Secretarial Order 3355, the Bureau of Land Management (BLM) has prepared a Final Environmental Impact Statement (EIS) for Peak Minerals Inc. DBA Crystal Peak Minerals' (CPM) Sevier Playa Potash Project (Project), and by this notice is announcing the availability.

DATES: The BLM will not issue a final decision on the proposal for a minimum of 30 days after the date that the Environmental Protection Agency publishes its Notice of Availability of the Final EIS in the Federal Register.

ADDRESSES: The Final EIS is available to those parties who participated in the process as well as other interested parties. Electronic copies of the Final EIS can be acquired from the BLM by any of the following methods:

• Email: blm_ut_fm_sevier_playa_potash_project@blm.gov.

• Fax: (435) 743-3136

• Download the document from BLM's ePlanning site at https://bit.ly/2CZPeWy.

• Mail: Bureau of Land Management Fillmore Field Office, Attn: Clara Stevens—Sevier Playa Potash Project, 95 East 500 North, Fillmore, UT 84631.

Copies of the Final EIS and supporting documents are available at the following locations:

(1) The BLM Fillmore Field Office at the above address and

(2) The BLM West Desert District Office at 2370 South Decker Lake Blvd., West Valley City, UT 84119.

FOR FURTHER INFORMATION CONTACT: Clara Stevens, Project Manager, telephone (435) 743-3119; address 95 East 500 North, Fillmore, UT 84631; email c1steven@blm.gov. Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION: The BLM served as the lead agency for the preparation of this EIS. The BLM worked with six cooperating agencies including the U.S. Fish and Wildlife Service, U.S. Environmental Protection Agency, U.S. Department of Defense, State of Utah, Beaver County, and Millard County.

The Project would be located in central Millard County in southwestern Utah. The Sevier Playa is a large terminal playa that is normally dry on the surface and contains subsurface potassium-bearing saline brines. The playa is approximately 26 miles long and averages 8 miles wide.

CPM through an agreement controls the rights to develop and operate potassium mineral leases on 117,814 acres of Federal lands administered by the BLM and an additional 6,409 acres of potash leases on State lands. CPM proposes to exercise their lease rights by constructing and operating the Project, which would produce approximately 372,000 tons per year of potassium sulfate (K2SO4), also known as sulfate of potash (SOP), and related minerals over the 35-year lifetime of the Project.

The Project is a potash mine proposed on 124,223 acres of Federal and State mineral leases. The proposal includes mining facilities located on-lease with off-lease supporting infrastructure. On-lease facilities include evaporation ponds; a brine extraction system (trenches, wells, and conveyance canals); a recharge system (trenches, canals, and Sevier River diversion); a waste product storage area (purge brine and tailings); water monitoring wells, access roads, and processing facilities. The off-lease facilities, proposed on approximately 4,283 acres of rights-of-way (ROWs), include power and communication lines, a natural gas pipeline, a rail loadout facility and rail spur; water supply wells; water monitoring wells; communication towers; portions of the preconcentration ponds; segments of recharge canals, the brine transfer canal, and the playa perimeter road; and access roads. Three gravel pits would also be developed.

Potassium-bearing brines would be extracted from trenches and wells on the Sevier Playa, and routed through a series of ponds, using solar evaporation to concentrate the brine. The preconcentration ponds would concentrate the brine causing halite (NaCl, table salt) and other non-commercial salts to precipitate. These salts would be stored in the preconcentration ponds. The saturated brine would be transferred to the production ponds for further evaporation, causing potassium-rich salts to precipitate. The production ponds would be harvested year-round, with the potassium-rich salts moved directly to the processing facility for processing into SOP. The SOP would be trucked to the rail loadout facility for distribution. Purge brine containing primarily magnesium chloride (MgCl2) would be removed from the production ponds before harvesting begins and would be piped to an on-playa purge brine storage pond. Process by-products (solid tailings) from the processing facility would be trucked to the on-playa tailings storage area.

The Final EIS analyzes CPM's Mining Plan, prepared for development of Federal potassium mineral leases acquired in 2011 and potash mineral leases acquired in 2008 on State lands. These leases were amalgamated under BLM casefile number UTU-88387. In addition, the Final EIS analyzes CPM's request for ROWs to construct various ancillary facilities on public lands in the vicinity of the mineral leases, but outside the lease boundary. CPM prepared a Plan of Development (POD) for the ROWs that they have requested. The Final EIS also analyzes CPM's request to purchase mineral materials for gravel to support construction and operation of the Project. Although the BLM may only make decisions pertaining to public lands managed by BLM, the EIS analyzes the complete Project including portions located on State and private lands.

This EIS evaluates, in detail, the no action alternative, the proposed action, and five action alternatives. Alternative (1) would route a cross-country segment of the off-lease 69-kV power and communication line to an alignment along existing roads, including SR 257 and SR-257 Cutoff Road; Alternative (2) would route a cross-country segment of the off-lease 69-kV power and communication line to a more southern orientation along existing roads, including Crystal Peak Road and Crystal Peak Spur Road; Alternative (3) would route a segment of the off-lease natural gas pipeline entirely on BLM land to avoid crossing private lands; Alternative (4) would route a cross-country segment of the off-lease natural gas pipeline to a similar alignment as Alternative 2 along existing roads, including Crystal Peak Road and Crystal Peak Spur Road; and Alternative (5) is an alternative method of diverting flows from the Sevier River into the recharge system. This alternative would relocate the on-lease Sevier River diversion facilities, including diversion channel, recharge canal, diversion culvert and sump, and perimeter and access roads slightly to the west, within the boundary of the playa.

In selecting the preferred alternative, the BLM considered all information that has been received consistent with the Federal Lands Policy Management Act (FLPMA), the Mineral Leasing Act, and ROW permitting responsibilities. The agency preferred alternative is the proposed action, based on CPM's Mining Plan, POD, and Gravel Pit Mining Plan. The agency preferred alternative includes design features, supplemental plans, and specific mitigation measures BLM has worked with CPM to develop an environmentally sound and technically viable proposal that addresses comments and suggestions received from the cooperating agencies and the public.

The BLM published a Notice of Intent for the Project on March 12, 2014 (79 FR 14078). Scoping was extended through August 31, 2015. A public scoping meeting was held in Delta, Utah on August 5, 2015. The public was offered the opportunity to provide written comments throughout the scoping process.

In 2015, pursuant to Executive Order 13175, the BLM initiated government-to-government consultation with the following federally recognized tribes: Confederated Tribes of the Goshute Reservation, the Hopi Tribe, the Kaibab Band of Paiute Indians, the Navajo Nation, the Paiute Indian Tribe of Utah, the Skull Valley Band of Goshute Indians, and the Ute Indian Tribe. Beginning in 2015, the BLM coordinated with the Utah State Historic Preservation Office and seven other consulting parties that requested to participate in the Section 106 process, to develop a Programmatic Agreement, which outlines a process to be used to avoid, mitigate, or treat adverse effects to historic properties. The BLM reached out to consult with the tribes again on November 19, 2018, with follow up phone calls and emails. On June 21, 2019, the BLM sent an update to the tribes on the project and inviting continued consultation on the Project.

In August 2015, the BLM invited jurisdictional agencies to participate as Cooperating Agencies in the Project. The following agencies accepted the invitation: The U.S. Department of Defense (Utah Test and Training Range), the Environmental Protection Agency, the U.S. Fish and Wildlife Service, the State of Utah, and Millard and Beaver Counties. These agencies and governments reviewed the Final EIS before it was available to the public and their comments have been incorporated into the document.

On November 30, 2018, the BLM published a Notice of Availability of the Draft EIS in the Federal Register (83 FR 61668) as did the EPA (83 FR 61632) which started a 45-day comment period. The Draft EIS comment period ran from November 30, 2018, until January 14, 2019. However, any comments received by the BLM by January 29, 2019, were considered in the Final EIS. During the public comment period on the Draft EIS, the BLM Fillmore Field Office received 10 comment letters and emails from cooperating agencies, local governments, interested parties, and the public. The majority of the concerns which were raised through the comments included (1) impacts to water resources and water quality including adverse effects to: Surface water, groundwater basins, existing water rights holders; (2) adverse effects to air quality in the form of fugitive dust and the criteria pollutant NO2 produced during construction and operation of the mine facilities; (3) impacts to migratory bird and bat populations; (4) the socioeconomic effects of water right acquisition for recharge water; (5) the NEPA process including the range of alternatives and alternatives considered but not analyzed in detail; (6) lands with wilderness characteristics; and (7) impacts to dark night skies.

Before including your address, phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10.

Edwin L. Roberson,
State Director.

[FR Doc. 2019-15903 Filed 7-25-19; 8:45 am]

BILLING CODE 4310-DQ-P